DEPARTMENT OF TRANSPORTATION

Federal Aviation Administration

14 CFR Part 39

[Docket No. FAA-2020-1076; Project Identifier MCAI-2020-01201-A; Amendment 39-22544; AD 2023-18-03]

RIN 2120-AA64

Airworthiness Directives; Viking Air Limited (Type Certificated Previously Held by Bombardier Inc. and de Havilland, Inc.) Airplanes

AGENCY: Federal Aviation Administration (FAA), DOT.

ACTION: Final rule.

SUMMARY: The FAA is adopting a new airworthiness directive (AD) for all Viking Air Limited (Viking) (type certificate previously held by Bombardier Inc. and de Havilland, Inc.) Model DHC-3 airplanes. This AD results from mandatory continuing airworthiness information (MCAI) originated by an aviation authority of another country to identify and correct an unsafe condition on an aviation product. The MCAI describes the unsafe condition as corrosion, wear, and fatigue-related degradation in aging aircraft. This AD requires incorporating into the existing maintenance records for your airplane the actions and associated thresholds and intervals, including life limits, specified in a supplemental inspection and corrosion control manual for Model DHC-3 airplanes. This AD also requires completing all the initial tasks identified in this manual and reporting corrosion findings to Viking. The FAA is issuing this AD to address the unsafe condition on these products.

DATES: This AD is effective October 24, 2023.

The Director of the Federal Register approved the incorporation by reference of a certain publication listed in this AD as of October 24, 2023.

ADDRESSES:

AD Docket: You may examine the AD docket at regulations.gov under Docket No. FAA-2020-1076; or in person at Docket Operations between 9 a.m. and 5 p.m., Monday through Friday, except Federal holidays. The AD docket contains this final rule, the MCAI, any comments received, and other information. The address for Docket Operations is U.S. Department of Transportation, Docket Operations, M-30, West Building Ground Floor, Room W12-140, 1200 New Jersey Avenue SE, Washington, DC 20590.

Material Incorporated by Reference:

• For service information identified in this final rule, contact Viking Air Limited Technical Support, 1959 de Havilland Way, Sidney, British Columbia, Canada V8L 5V5; phone: (800) 663-8444; fax: (250) 656-0673; email: technical.support@vikingair.com; website: vikingair.com/support/service-bulletins.

• You may view this service information at the FAA, Airworthiness Products Section, Operational Safety Branch, 901 Locust, Kansas City, MO 64106. For information on the availability of this material at the FAA, call (817) 222-5110. It is also available at regulations.gov under Docket No. FAA-2020-1076.

FOR FURTHER INFORMATION CONTACT: Deep Gaurav, Aviation Safety Engineer, FAA, 1600 Stewart Avenue, Suite 410, Westbury, NY 11590; phone: (516) 228-7321; email: 9-avs-nyaco-cos@faa.gov.

SUPPLEMENTARY INFORMATION:

Background

The FAA issued a notice of proposed rulemaking (NPRM) to amend 14 CFR part 39 by adding an AD that would apply to all Viking Model DHC-3 airplanes. The NPRM published in the Federal Register on February 8, 2022 (87 FR 7059). The NPRM was prompted by AD CF-2018-04, dated January 19, 2018, issued by Transport Canada, which is the aviation authority for Canada (referred to after this as the MCAI). The MCAI states that Viking developed a supplementary inspection and corrosion control program for aging airplanes, which identifies specific locations of an airplane that must be inspected to ensure corrosion-related degradation does not result in an unsafe condition.

The MCAI requires doing all inspections specified in Part 2 of Viking DHC-3 Otter Supplemental Inspection and Corrosion Control Manual, PSM 1-3-5, Revision IR, dated December 21, 2017 (Viking PSM 1-3-5, Revision IR), doing applicable corrective actions using Part 3 of Viking PSM 1-3-5, Revision IR, and reporting to Viking Level 2 and Level 3 corrosion as specified in Part 3 of Viking PSM 1-3-5, Revision IR.

Corrosion, wear, and fatigue-related degradation, if not addressed, could lead to structural failure with consequent loss of control of the airplane.

In the NPRM, the FAA proposed to require establishing a corrosion prevention and control program to identify and correct corrosion and cracking. In the NPRM, the FAA also proposed to require completing all of the initial tasks identified in the program and reporting corrosion findings to Viking.

You may examine the MCAI in the AD docket at regulations.gov under Docket No. FAA-2020-1076.

The FAA issued a supplemental notice of proposed rulemaking (SNPRM) to amend 14 CFR part 39 by adding an AD that would apply to all Viking Model DHC-3 airplanes. The SNPRM published in the Federal Register on June 28, 2023 (88 FR 41863). The SNPRM was prompted by the FAA's decision to revise the proposed actions specified in the NPRM and to reopen the comment period to allow the public the chance to comment on whether the proposed AD would have a significant economic impact on a substantial number of small entities. In the SNPRM, the FAA proposed to require incorporating into the existing maintenance records for your airplane the actions and associated thresholds and intervals, including life limits, specified in Parts 2 and 3 of Viking PSM 1-3-5, Revision IR, completing all the initial tasks identified in Viking PSM 1-3-5, Revision IR, and reporting to Viking any Level 2 or Level 3 corrosion findings. The FAA is issuing this AD to address the unsafe condition on these products.

Discussion of Final Airworthiness Directive

Comments

The FAA received no comments on the SNPRM or on the determination of the costs.

Conclusion

These products have been approved by the aviation authority of another country and are approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on these products. Except for minor editorial changes, this AD is adopted as proposed in the SNPRM.

ADs Mandating Airworthiness Limitations (ALS)

The FAA has previously mandated airworthiness limitations by issuing ADs that require revising the ALS of the existing maintenance manual or instructions for continued airworthiness to incorporate new or revised inspections. This AD, however, requires establishing and incorporating new inspections into the existing maintenance records required by 14 CFR 91.417(a)(2) or 135.439(a)(2) for your airplane. The FAA does not intend this as a substantive change. Requiring incorporation of the new ALS requirements into the existing maintenance records, rather than requiring individual repetitive inspections and replacements, allows operators to record AD compliance once after updating the existing maintenance records, rather than recording compliance after every inspection and part replacement.

Related Service Information Under 1 CFR Part 51

The FAA reviewed Viking PSM 1-3-5, Revision IR, which specifies procedures for inspecting areas of the airplane that are particularly susceptible to corrosion, wear, and fatigue-related degradation. Viking PSM 1-3-5, Revision IR, also specifies repetitive inspection intervals, defines the different levels of corrosion, and provides corrective action if corrosion is found.

This service information is reasonably available because the interested parties have access to it through their normal course of business or by the means identified in ADDRESSES.

Other Related Service Information

The FAA also reviewed Viking DHC-3 Otter Service Bulletin V3/0010, Revision NC, dated March 19, 2020. The service bulletin provides a list of new inspection tasks that have been added to the DHC-3 maintenance program in Viking PSM 1-3-5, Revision IR.

Impact on Intrastate Aviation in Alaska

In light of the heavy reliance on aviation for intrastate transportation in Alaska, the FAA has fully considered the effects of this final rule (including costs to be borne by affected operators) from the earliest possible stages of AD development. As previously stated, 14 CFR part 39 requires operators to correct an unsafe condition identified on an airplane to ensure operation of that airplane in an airworthy condition. The FAA has determined that the need to correct corrosion-related degradation in aging aircraft, which could lead to structural failure with consequent loss of control of the airplane, outweighs any impact on aviation in Alaska.

Costs of Compliance

The FAA estimates that this AD affects 68 airplanes of U.S. registry. The FAA also estimates that it will take about 1 work-hour per airplane at a labor rate of $85 per work-hour to revise the existing maintenance records.

Based on these figures, the FAA estimates the cost of this AD on U.S. operators to be $5,780 or $85 per airplane.

The FAA estimates it will take about 1 work-hour to report any Level 2 corrosion found during the initial or subsequent inspections or any Level 3 corrosion found during the initial or subsequent inspections, for an estimated cost of $85 per airplane.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Flexibility Determination

The Regulatory Flexibility Act of 1980, Public Law 96-354, 94 Stat. 1164 (5 U.S.C. 601-612) (RFA) establishes as a principle of regulatory issuance that agencies shall endeavor, consistent with the objectives of the rule and of applicable statutes, to fit regulatory and informational requirements to the scale of the businesses, organizations, and governmental jurisdictions subject to regulation.

To achieve this principle, agencies are required to solicit and consider flexible regulatory proposals and to explain the rationale for their actions to assure that such proposals are given serious consideration. The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

The FAA published an Initial Regulatory Flexibility Analysis (IRFA) for this rule to aid the public in commenting on the potential impacts to small entities. The FAA did not receive any public comments on the IRFA. The purpose of this Final Regulatory Flexibility Analysis (FRFA) is to provide the reasoning underlying the FAA's determination. A FRFA must contain the following:

(1) A statement of the need for, and objectives of, the rule;

(2) A statement of the significant issues raised by the public comments in response to the IRFA, a statement of the assessment of the agency of such issues, and a statement of any changes made in the proposed rule as a result of such comments;

(3) The response of the agency to any comments filed by the Chief Counsel for Advocacy of the Small Business Administration (SBA) in response to the proposed rule, and a detailed statement of any change made to the proposed rule in the final rule as a result of the comments;

(4) A description of and an estimate of the number of small entities to which the rule will apply or an explanation of why no such estimate is available;

(5) A description of the projected reporting, recordkeeping, and other compliance requirements of the proposed rule, including an estimate of the classes of small entities which will be subject to the requirement and the type of professional skills necessary for preparation of the report or record; and

(6) A description of the steps the agency has taken to minimize the significant economic impact on small entities consistent with the stated objectives of applicable statutes, including a statement of the factual, policy, and legal reasons for selecting the alternative adopted in the final rule and why each of the other significant alternatives to the rule considered by the agency which affect the impact on small entities was rejected.

1. Need for and Objectives of the Rule

The NPRM proposed to adopt a new AD for all Viking Model DHC-3 airplanes. This AD results from MCAI originated by an aviation authority of another country to identify and correct an unsafe condition on an aviation product.

The objective of this final rule is to require incorporating into the existing maintenance records for your airplane the actions and associated thresholds and intervals, including life limits, specified in a supplemental inspection and corrosion control manual for Model DHC-3 airplanes. This final rule also requires completing all the initial tasks identified in this manual and reporting corrosion findings to Viking.

2. Significant Issues Raised in Public Comments

The FAA received no public comments on the SNPRM.

3. Response to SBA Comments

The Chief Counsel for Advocacy of the SBA did not file any comments in response to the proposed rule. Thus, the FAA did not make any changes to the proposed rule in the final rule.

4. Description and Estimate of the Number of Small Entities

The RFA defines small entities as small businesses, small governmental jurisdictions, or small organizations. In 5 U.S.C. 601(3), the RFA defines “small business” to have the same meaning as “small business concern” under section 3 of the Small Business Act. The Small Business Act authorizes the SBA to define “small business” by issuing regulations.

SBA (2022) has established size standards for various types of economic activities, or industries, under the North American Industry Classification System (NAICS).¹ These size standards generally define small businesses based on the number of employees or annual receipts.

¹ Small Business Administration (SBA). 2022. Table of Size Standards. Effective July 14, 2022. https://www.sba.gov/document/support-table-size-standards.

The FAA identified 68 de Havilland Model DHC-3 “Otter” airplanes that would be affected by the final rule AD. These 68 airplanes are registered to 32 private firms and 5 individuals. The individuals are excluded from this analysis as they presumably are not small entities under the RFA.

The 32 private firms own 63 airplanes. Of these firms, the FAA was able to obtain the data necessary to classify 21 of them.² All but one firm qualify as small entities under the RFA. Thus, the FAA estimates that this rule would impact 20 small entities. For these 20 small entities, the results of the cost impact analysis are shown in Table 1, “Cost Impact on Small Entities.”

² Firm revenue and employee count are drawn from online sources, including: Dun & Bradstreet, Inc. (www.dnb.com); Manta Media, Inc. (www.manta.com); Buzzfile Media, Inc. (www.buzzfile.com); Datanyze, Inc. (www.datanyze.com); Moody's Analytics (start.cortera.com); GeneralLiabilityInsure.com (generalliabilityinsure.com); Kona Equity (www.konaequity.com); and ZoomInfo Technologies LLC (www.zoominfo.com).

5. Projected Reporting, Recordkeeping, and Other Compliance Requirements

AD costs per airplane are 1 work hour plus $85 reporting costs for initial inspection, for a total of $170. The AD cost per small entity is shown in the “Cost” column of Table 1 and cost impact is measured by AD cost as a percentage of revenues. As the table shows, the mean cost impact is 0.1% of annual revenues, with a maximum impact of 0.46% of annual revenues, and a minimum impact below 0.01%.

Table 1—Cost Impact on Small Entities
Firm | No. A/C | Revenue ($1,000) | Cost ($1,000) | Cost/ revenue (%) | NAICS code | Size standard | NAICS industry
SUMMIT LEASING LLC | 3 | 110 | 0.2 | 0.00 | 532490 | $35 mn | Other Comm'l and Industrial Mach. and Equip. Rental & Leasing.
KATMAI AIR LLC | 2 | 117 | 0.2 | 0.00 | 532411 | $40 mn | Comm'l Air, Rail, and Water Transp. Equip. Rental & Leasing.
JESPERSEN AIRCRAFT SERVICES INC | 1 | 113 | 1.9 | 0.00 | 481219 | $22 mn | Other Nonscheduled Air Transportation.
DOYON AIR TRANSPORT LLC | 1 | 127 | 1.0 | 0.01 | 488999 | $22 mn | All Other Support Activities for Transportation.
RED LEASING LLC | 2 | 359 | 0.2 | 0.01 | 532490 | $35 mn | Other Comm'l and Industrial Mach. and Equip. Rental & Leasing.
RAINBOW KING LODGE INC | 1 | 209 | 0.2 | 0.02 | 721199 | $8 mn | All Other Traveler Accommodation.
PANTECHNICON AVIATION LTD | 1 | 235 | 0.2 | 0.02 | 532411 | $40 mn | Comm'l Air, Rail, and Water Transp. Equip. Rental & Leasing.
EMERALD AIR SERVICE INC | 1 | 250 | 1.0 | 0.02 | 481219 | $22 mn | Other Nonscheduled Air Transportation.
BLUE AIRCRAFT LLC | 2 | 750 | 0.2 | 0.02 | 483000 | 1500 emp | Scheduled Passenger Air Transportation.
TALON AIR SERVICE INC | 1 | 520 | 0.2 | 0.02 | 481219 | $22 mn | Other Nonscheduled Air Transportation.
BALD MOUNTAIN AIR SERVICE INC | 1 | 700 | 0.2 | 0.03 | 481219 | $22 mn | Other Nonscheduled Air Transportation.
NORTHWEST SEAPLANES INC | 1 | 750 | 0.3 | 0.05 | 481111 | 1500 emp | Scheduled Passenger Air Transportation.
TALKEETNA AIR TAXI INC | 6 | 4,600 | 0.2 | 0.07 | 481211 | 1500 emp | Nonscheduled Chartered Passenger Air Transportation.
GOLDEN EAGLE OUTFITTERS INC | 1 | 960 | 0.2 | 0.07 | 713990 | $8 mn | All Other Amusement and Recreation Industries.
MUNICH HANS W DBA | 1 | 998 | 0.2 | 0.08 | 481219 | $22 mn | Other Nonscheduled Air Transportation.
DESTINATION ALASKA ADVENTURE CO LLC | 1 | 1,300 | 0.3 | 0.09 | 481211 | 1500 emp | Nonscheduled Chartered Passenger Air Transportation.
RUSTAIR INC | 6 | 10,224 | 0.2 | 0.13 | 532411 | $40 mn | Comm'l Air, Rail, and Water Transp. Equip. Rental & Leasing.
KENMORE AIR HARBOR LLC | 11 | 51,500 | 0.2 | 0.15 | 481111 | 1500 emp | Scheduled Passenger Air Transportation.
RAPIDS CAMP LODGE INC | 1 | 7,000 | 0.3 | 0.29 | 721214 | $8 mn | Recreational and Vacation Camps (except Campgrounds).
BANK OF UTAH TRUSTEE | 1 | 90,000 | 0.5 | 0.46 | 522110 | $750 mn in assets | Commercial Banking.
Total | 45 | 170,822 | 7.7 |  |
Average |  | 8,541 | 0.38 | 0.06 |
Median |  | 725 | 0.17 | 0.02 |
Notes: 1. The size standard is the maximum size for the NAICS industry considered by the Small Business Administration to be a small entity. 2. AD costs per airplane are 1 work-hour × $85 + $85 reporting costs for initial inspection, for a total of $170.

Costs under 1% of revenues for all of the small entities lead the FAA to conclude that this rule does not have a significant impact on a substantial number of small entities.

6. Significant Alternatives Considered

As part of the FRFA, the FAA is required to consider regulatory alternatives that may be less burdensome.

The FAA did not find any significant regulatory alternatives to this AD that would still accomplish the safety objectives of this AD.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not have a significant economic impact, positive or negative, on a substantial number of small entities under the criteria of the RFA.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-18-03 Viking Air Limited (Type Certificate Previously Held by Bombardier Inc. and de Havilland, Inc.): Amendment 39-22544; Docket No. FAA-2020-1076; Project Identifier MCAI-2020-01201-A.

(a) Effective Date

This airworthiness directive (AD) is effective October 24, 2023.

(b) Affected ADs

None.

(c) Applicability

This AD applies to Viking Air Limited (type certificate previously held by Bombardier Inc. and de Havilland, Inc.) Model DHC-3 airplanes, all serial numbers, certificated in any category.

(d) Subject

Joint Aircraft System Component (JASC) Code 2700, Flight Control System.

(e) Unsafe Condition

This AD was prompted by mandatory continuing airworthiness information (MCAI) originated by an aviation authority of another country to identify and correct an unsafe condition on an aviation product. The MCAI describes the unsafe condition as corrosion, wear, and fatigue-related degradation in aging aircraft. The FAA is issuing this AD to detect and address corrosion and cracking. This condition, if not addressed, could lead to structural failure with consequent loss of control of the airplane.

(f) Compliance

Comply with this AD within the compliance times specified, unless already done.

(g) Required Actions

(1) Within 90 days after the effective date of this AD, incorporate into the existing maintenance records required by 14 CFR 91.417(a)(2) or 135.439(a)(2), as applicable for your airplane, the actions and associated thresholds and intervals, including life limits, specified in Parts 2 and 3 of Viking DHC-3 Otter Supplemental Inspection and Corrosion Control Manual, PSM 1-3-5, Revision IR, dated December 21, 2017 (Viking PSM 1-3-5, Revision IR). Do each initial task within 6 months after the effective date of this AD or at the threshold for each applicable task specified in Part 3 of Viking Product Support Manual PSM 1-3-5, Revision IR, whichever occurs later. Where Viking PSM 1-3-5, Revision IR, specifies contacting Viking regarding a component's alloy and heat treat condition, this AD requires contacting the Manager, International Validation Branch, FAA, Transport Canada, or Viking's Transport Canada Design Approval Organization (DAO). If approved by the DAO, the approval must include the DAO-authorized signature.

Note 1 to paragraph (g)(1): Viking DHC-3 Otter Service Bulletin V3/0010, Revision NC, dated March 19, 2020, contains additional information related to this AD.

(2) After the action required by paragraph (g)(1) of this AD has been done, no alternative actions and associated thresholds and intervals, including life limits, are allowed unless they are approved as specified in paragraph (i) of this AD.

(h) Reporting

(1) For inspections done after the effective date of this AD, report to Viking any Level 2 or Level 3 corrosion, as specified in Viking PSM 1-3-5, Revision IR, at the times specified in and in accordance with part 3, paragraph 5, of Viking PSM 1-3-5, Revision IR.

(2) For inspections done before the effective date of this AD, within 30 days after the effective date of this AD report to Viking any Level 2 or Level 3 corrosion, as specified in Viking PSM 1-3-5, Revision IR, in accordance with part 3, paragraph 5, of Viking PSM 1-3-5, Revision IR.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, mail it to the address identified in paragraph (j)(2) of this AD or email to: 9-AVS-AIR-730-AMOC@faa.gov. If mailing information, also submit information by email.

(2) Before using any approved AMOC, notify your appropriate principal inspector, or lacking a principal inspector, the manager of the local flight standards district office/certificate holding district office.

(3) An AMOC that provides an acceptable level of safety may be used for any repair, modification, or alteration required by this AD if it is approved specifically for this AD by the Manager, International Validation Branch, FAA.

(j) Additional Information

(1) Refer to Transport Canada AD CF-2018-04, dated January 19, 2018, for related information. This Transport Canada AD may be found in the AD docket at regulations.gov under Docket No. FAA-2020-1076.

(2) For more information about this AD, contact Deep Gaurav, Aviation Safety Engineer, FAA, 1600 Stewart Avenue, Suite 410, Westbury, NY 11590; phone: (817) 228-3731; email: 9-avs-nyaco-cos@faa.gov.

(3) Service information identified in this AD that is not incorporated by reference is available at the addresses specified in paragraphs (k)(3) and (4) of this AD.

(k) Material Incorporated by Reference

(1) The Director of the Federal Register approved the incorporation by reference of the service information listed in this paragraph under 5 U.S.C. 552(a) and 1 CFR part 51.

(2) You must use this service information as applicable to do the actions required by this AD, unless the AD specifies otherwise.

(i) Viking DHC-3 Otter Supplemental Inspection and Corrosion Control Manual, PSM 1-3-5, Revision IR, dated December 21, 2017.

(ii) [Reserved]

(3) For service information identified in this AD, contact Viking Air Limited Technical Support, 1959 de Havilland Way, Sidney, British Columbia, Canada V8L 5V5; phone: (800) 663-8444; fax: (250) 656-0673; email: technical.support@vikingair.com; website: vikingair.com/support/service-bulletins.

(4) You may view this service information at the FAA, Airworthiness Products Section, Operational Safety Branch, 901 Locust, Kansas City, MO 64106. For information on the availability of this material at the FAA, call (817) 222-5110.

(5) You may view this service information that is incorporated by reference at the National Archives and Records Administration (NARA). For information on the availability of this material at NARA, email: fr.inspection@nara.gov, or go to: www.archives.gov/federal-register/cfr/ibr-locations.html.

Issued on September 1, 2023.
Victor Wicklund,
Deputy Director, Compliance & Airworthiness Division, Aircraft Certification Service.

[FR Doc. 2023-20188 Filed 9-18-23; 8:45 am]

BILLING CODE 4910-13-P